DEPARTMENT OF DEFENSE

Department of the Navy

Notice of Closed Meetings of the Naval Research Advisory Committee

AGENCY: Department of the Navy, DoD.

ACTION: Notice.

SUMMARY: The Naval Research Advisory Committee (NRAC) will meet to discuss classified information from government organizations and proprietary information from commercial organizations. With the exception of participants' registration and introduction/welcoming remarks on Monday, June 16, 2008, all sessions of the meeting will be devoted to briefings, discussions and technical examination of information related to the study of undersea maritime domain awareness technologies and disruptive commercial technologies to U.S. Navy and U.S. Marine combat operations. Discussions will focus on the exploitation of physical vulnerabilities and the tactical applications of known and emerging technologies. Each session will examine vulnerabilities of individuals and systems, and how the enemy is exploiting these vulnerabilities.

The sessions will also include proprietary information regarding technology applications and systems under development in the private sector between competing companies. The sessions will also focus on the assessment of the emerging concepts of operations in each of these areas and evaluate appropriate options in such areas as: training, S&T funding allocation, technology monitoring, and progress assessments; and probable time frames for transformation and implementation.

The sessions will also identify, review, and assess challenges with the utilization and fielding of various technology applications.

DATES: With the exception of the registration session from 8 a.m. to 9 a.m., the introduction/welcoming remarks session from 9 a.m. to 12 p.m., and the lunch session from 12 p.m. to 1 p.m. on Monday, June 16, 2008, all remaining sessions on June 16, 2008 from 1 p.m. to 5 p.m. will be closed to the public. In addition, all the sessions for the meetings to be held on Tuesday, June 17, 2008 through Friday, June 20, 2008, from 8 a.m. to 5 p.m.; and Monday, June 23, 2008, through Thursday, June 26, 2008, from 8 a.m. to 5 p.m. will be closed to the public.

ADDRESSES: The meeting will be held at the Space and Naval Warfare Systems Center, 53560 Hull Street, San Diego, CA 92152.

FOR FURTHER INFORMATION CONTACT: Mr. William H. Ellis, Jr., Program Director, Naval Research Advisory Committee, 875 North Randolph Street, Arlington, VA 22203-1955, 703-696-5775.

SUPPLEMENTARY INFORMATION: This notice is provided in accordance with the provisions of the Federal Advisory Committee Act (5 U.S.C. App. 2). With the exception of participants' registration and introduction/welcoming remarks on Monday, June 16, 2008 all sessions of the meeting will be devoted to executive sessions that will include discussions and technical examination of information related to undersea domain awareness and disruptive commercial technologies to U.S. Navy and U.S. Marine Corps combat operations.

These briefings and discussions will contain proprietary information and classified information that is specifically authorized under criteria established by Executive Order to be kept Secret in the interest of national defense and are in fact properly classified pursuant to such Executive Order and SECNAV Instructions M-5510.36 of June 2006.

The proprietary, classified and non-classified matters to be discussed are so inextricably intertwined as to preclude opening these sessions of the meeting. In accordance with 5 U.S.C. App. 2, section 10(d), the Secretary of the Navy has determined in writing that the public interest requires that these sessions of the meeting be closed to the public because they will be concerned with matters listed in 5 U.S.C. section 552b(c)(1), (4) and SECNAV Instructions M-5510.36 of June 2006.

Dated: May 2, 2008.
T.M. Cruz,
Lieutenant, Office of the Judge Advocate General, U.S. Navy, Federal Register Liaison Officer.

[FR Doc. E8-10222 Filed 5-7-08; 8:45 am]

BILLING CODE 3810-FF-P